NUCLEAR REGULATORY COMMISSION
Advisory Committee on Reactor Safeguards, Meeting of the ACRS Subcommittee on Reliability and Probabilistic Risk Assessment; Notice of Meeting
The ACRS Subcommittee on Reliability and Probabilistic Risk Assessment will hold a meeting on February 19, 2004, Room T-2B3, 11545 Rockville Pike, Rockville, Maryland.
The entire meeting will be open to public attendance.
The agenda for the subject meeting shall be as follows:
Thursday, February 19, 2004—8:30 a.m. Until the Conclusion of Business
The purpose of this meeting is to review the ongoing resolution of public comments on the proposed 10 CFR 50.69, “Risk-Informed Categorization and Treatment of Structures, Systems, and Components,” and the staff's draft Regulatory Guide endorsing Revision D of NEI 00-04, “10 CFR 50.69 Structures, Systems, and Components Categorization Guideline.” The Subcommittee will hear presentations by and hold discussions with representatives of the NRC staff and NEI regarding this matter. The Subcommittee will gather information, analyze relevant issues and facts, and formulate proposed positions and actions, as appropriate, for deliberation by the full Committee.
Members of the public desiring to provide oral statements and/or written comments should notify the Designated Federal Official, Mr. Michael R. Snodderly (telephone: 301-415-6927) five days prior to the meeting, if possible, so that appropriate arrangements can be made. Electronic recordings will be permitted during the meeting.
Further information regarding this meeting can be obtained by contacting the Designated Federal Official between 7:30 a.m. and 4:15 p.m. (e.t.). Persons planning to attend this meeting are urged to contact the above named individual at least two working days prior to the meeting to be advised of any potential changes to the agenda.

Dated: January 23, 2004.
Sher Bahadur,
Associate Director for Technical Support, ACRS/ACNW.

[FR Doc. 04-2016 Filed 1-29-04; 8:45 am]
BILLING CODE 7590-01-P